DEPARTMENT OF ENERGY

Proposed Subsequent Arrangement

AGENCY: Office of International Regimes and Agreements, Department of Energy.

ACTION: Subsequent arrangement.

SUMMARY: This notice has been issued under the authority of Section 131 of the Atomic Energy Act of 1954, as amended (42 U.S.C. 2160). The Department is providing notice of a proposed subsequent arrangement under the Agreement for Cooperation between the United States of America and the Government of Canada Concerning Peaceful Uses of Nuclear Energy and the Agreement for Cooperation in the Peaceful Uses of Nuclear Energy between the United States and the European Atomic Energy Community (EURATOM).

This subsequent arrangement concerns the retransfer of 229,290 kg of U.S.-origin natural uranium hexafluoride (67.6%), 155,000 kg of which is uranium, from Cameco in Saskatoon, Saskatchewan, Canada to Urenco in Capenhurst Works, Chester, United Kingdom. The material, which is currently located at Cameco, Blind River, will be transferred to Urenco for toll enrichment at their Capenhurst UK facility. The natural uranium hexafluoride was originally obtained by Cameco from Crowe Butte Resources Inc. pursuant to export license XSOU8798.

In accordance with Section 131 of the Atomic Energy Act of 1954, as amended, we have determined that this subsequent arrangement will not be inimical to the common defense and security.

This subsequent arrangement will take effect no sooner than fifteen days after the date of publication of this notice.

Dated: January 21, 2010.
For the Department of Energy.
Richard Goorevich,
Director, Office of International Regimes and Agreements.

[FR Doc. 2010-1754 Filed 1-27-10; 8:45 am]

BILLING CODE 6450-01-P